AGENCY FOR INTERNATIONAL DEVELOPMENT

Agency Information Collection Activities; Submission to the Office of Management and Budget for Review and Approval; Comment Request; USAID Workforce Commuter Survey

AGENCY: Agency for International Development (USAID).

ACTION: Notice of information collection; request for comment.

SUMMARY: In accordance with the Paperwork Reduction Act of 1995, USAID is proposing a new information collection.

DATES: All comments should be submitted within 30 calendar days from the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: For specific questions related to collection activities, please contact Greg Shanahan, mbureauclimatechangewg@usaid.gov, 202-921-5107.

SUPPLEMENTARY INFORMATION: USAID, in accordance with the Paperwork Reduction Act of 1995 (PRA) (44 U.S.C. 3506(c)(2)(A)), provides the general public and Federal agencies with an opportunity to comment on proposed, revised, and continuing collections of information. This helps USAID assess the impact of its information collection requirements and minimize the public's reporting burden. It also helps the public understand USAID's information collection requirements and provide USAID the data it requested in the format it prefers. USAID is soliciting comments on the proposed information collection request (ICR) that USAID describes below. USAID is especially interested in public comment addressing the following issues: (1) how USAID might enhance the quality, utility, and clarity of the information it is planning to collect; and (2) how USAID might minimize the burden for the members of USAID's workforce who respond to the commuter survey, including by using information technology. Written comments USAID receives in response to this notice will be public records.

Title of Collection: USAID Workforce Commuter Survey.

OMB Control Number: XXXX.

Type of Review: A new information collection.

Respondents/Affected Public: USAID's workforce, including contractor staff.

Total Estimated Number of Annual Responses: 6,500.

Total Estimated Number of Annual Burden Hours: 1,083.33 (6,500 * 10 mins = 65,000 mins ÷ 60 mins = 1,083.33 hours).

Abstract: USAID's workforce commuter survey enables USAID to estimate the greenhouse gas (GHG) emissions associated with its workforce's commuting and to gather data on its workforce's commuting habits. USAID will use these data to inform its GHG emissions inventory, measure progress against its GHG emissions reduction targets, and inform and improve its commuter benefits program and reporting.

Dated: January 8, 2024.
Ruth Buckley,
Deputy Assistant Administrator for Management, Bureau for Management, USAID.

[FR Doc. 2024-00475 Filed 1-10-24; 8:45 am]

BILLING CODE P